DEPARTMENT OF HEALTH AND HUMAN SERVICES

Draft Pandemic Influenza Preparedness and Response Plan

AGENCY: Department of Health and Human Services, Office of the Secretary.

ACTION: Notice.

SUMMARY: The National Vaccine Program Office (NVPO), Department of Health and Human Services, has drafted a plan to guide national preparedness and response to an influenza pandemic. The draft Pandemic Influenza Preparedness and Response Plan articulates a coordinated strategy to prepare and respond to an influenza pandemic and provides guidance to national, state, and local policy makers and health departments for public health preparation and response in the event of pandemic influenza outbreak. The draft plan includes a core section and twelve annexes. The core plan describes coordination and decision-making activities at the National level; provides an overview of key issues; and outlines action steps that should be taken at National, state, and local levels before and during a pandemic. Annexes provide additional information for health departments and private sector organizations, which can be used in developing local preparedness plans as well as additional technical information to support the core document.

DATES: Comments will be considered if we receive them at the appropriate address, as provided below, no later than 5 p.m. on October 26, 2004.

ADDRESSES: Attn: Pandemic Plan, National Vaccine Program Office, Hubert H. Humphrey Building, Room 725H, 200 Independence Avenue, SW., Washington, DC 20201 or by email at pandemicinfluenza@osophs.dhhs.gov.

FOR FURTHER INFORMATION CONTACT: Persons with access to the Internet may obtain the document at http://www.dhhs.gov/nvpo/pandemicplan. Submit requests for single copies of the draft pandemic plan to the address identified below.

Attn: Pandemic Plan, National Vaccine Program Office, Hubert H. Humphrey Building, Room 725H, 200 Independence Avenue, SW., Washington, DC 20201 or by email at pandemicinfluenza@osophs.dhhs.gov.

SUPPLEMENTARY INFORMATION:

I. Background

An influenza pandemic represents a major threat to health and may cause substantial social and economic disruption. Planning and implementing preparedness activities are critical to improving the effectiveness of a response and decreasing the impacts of a pandemic. The draft Pandemic Influenza Preparedness and Response Plan was developed to define national preparedness and response activities, and to guide planning activities that are underway at the State and local levels in both the public and private sectors. The plan is designed to be consistent with other health emergency preparedness and response plans while also recognizing the unique issues that an influenza pandemic would present.

II. Input Sought

There are several issues in the draft plan where options are being considered by the Department of Health and Human Services and final decisions are pending. Public comment on all aspects of the plan is being sought.

Dated: August 17, 2004.
Arthur J. Lawrence,
Acting Principal Deputy Assistant Secretary for Health, Office of Public Health and Science.

[FR Doc. 04-19285 Filed 8-26-04; 8:45 am]

BILLING CODE 4150-28-P